DEPARTMENT OF ENERGY

Federal Energy Regulatory Commission

[Project No. 1403-068]

Yuba County Water Agency; Notice of Application Ready for Environmental Analysis and Soliciting Comments, Recommendations, Terms and Conditions, and Prescriptions

Take notice that the following hydroelectric application has been filed with the Commission and is available for public inspection.

a. Type of Application: New Major License.

b. Project No.: 1403-068.

c. Date Filed: November 14, 2023.

d. Applicant: Yuba County Water Agency.

e. Name of Project: Narrows Hydroelectric Project.

f. Location: The existing project is located on the Yuba River in Nevada County, California, approximately 23 miles northeast of the City of Marysville. The project affects 0.55 acres of Federal land managed by the U.S. Army Corps of Engineers.

g. Filed Pursuant to: Federal Power Act 16 U.S.C. 791a-825r.

h. Applicant Contact: Mr. Willie Whittlesey, General Manager, Yuba County Water Agency, 1220 F Street, Marysville, CA 95901; phone: (530) 741-5000 or email: WWhittlesey@yubawater.org.

i. FERC Contact: Rebecca Kipp, (202) 502-8846 or rebecca.kipp@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Narrows Hydroelectric Project (P-1403-068).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The Narrows Project consists of: (1) an adit portal connecting to the Corps' tunnel from Englebright Dam; (2) a 1,077-foot-long tunnel that connects the adit portal to the project penstock; (3) a 266-foot-long steel penstock pipe that connects the project tunnel to the project powerhouse; and (4) a reinforced concrete powerhouse containing a single 12-megawatt Francis turbine capable of passing up to 730 cubic feet per second (cfs). There are no recreation facilities at the project. The estimated average annual generation of the project is 52,887 megawatt-hours.

The Narrows Project operates as a run-of-river facility primarily through remote control using a Supervisory Control and Data Acquisition system. YCWA coordinates operations of the Narrows 1 powerhouse, which is a facility of the Narrows Project and the Narrows 2 powerhouse, which is a facility of YCWA's Yuba River Development Project No. 2246 located on the north bank of the river at the base of Englebright, to meet downstream flow requirements and irrigation water demands as follows: (1) lower flow requirements: when the required releases are less than the Narrows 1 powerhouse's current capacity, only Narrows 1 powerhouse operates; (2) moderate flow requirement up to 900 cfs: when the required releases exceed the Narrows 1 powerhouse's capacity but under 900 cfs, the Narrows 1 powerhouse operates at full capacity. The remaining required release is provided via Narrows 2 full or partial bypass; (3) high flow requirement over 900 cfs: when the release is over 900 cfs, the Narrows 2 powerhouse operates either independently or in conjunction with Narrows 1; (4) transitioning Narrows 1 online: if Narrows 2 is operating but Narrows 1 needs to come online, synchronization to the grid occurs while reducing Narrows 2 output; (5) as Narrows 1 gradually increases its load and water releases, Narrows 2 decreases its release to maintain the overall required flow; and (6) transitioning Narrows 2 online: if Narrows 1 is operating and Narrows 2 needs to come online, synchronization to the grid occurs while reducing Narrows 1 output, allowing Narrows 2 to supplement Narrows 1 load to meet the release requirements.

Yuba County Water Agency is not proposing any changes to project facilities or operation.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. Procedural Schedule: The application will be processed according to the following schedule. Revisions to the schedule will be made as appropriate.

Deadline for Filing Comments, Recommendations, and Agency Terms and Conditions/Prescriptions—April 2025

Licensee's Reply to REA Comments—June 2025

o. Final amendments to the application must be filed with the Commission no later than 30 days from the issuance date of this notice.

Dated: February 26, 2025.
Debbie-Anne A. Reese,
Secretary.

[FR Doc. 2025-03501 Filed 3-4-25; 8:45 am]

BILLING CODE 6717-01-P